DEPARTMENT OF EDUCATION

34 CFR Parts 674, 682, 685, and 686

Office of Postsecondary Education; Notice of Intent To Establish Negotiated Rulemaking Committees Under Title IV of the Higher Education Act of 1965, as Amended

AGENCY: Department of Education.

ACTION: Notice of negotiated rulemaking.

SUMMARY: The Secretary of Education (Secretary) announces the establishment of two negotiated rulemaking committees to develop proposed regulations related to the Federal student aid programs authorized by Title IV of the Higher Education Act of 1965, as amended (HEA). The first committee will develop proposed regulations for the Teacher Education Assistance for College and Higher Education (TEACH) Grant program. The second committee will develop proposed regulations for other Federal student aid programs authorized by Title IV of the HEA.

DATES: The dates for the negotiated rulemaking sessions are listed in the SUPPLEMENTARY INFORMATION section of this notice.

FOR FURTHER INFORMATION CONTACT: John Kolotos, U.S. Department of Education, 1990 K Street, NW., room 8018, Washington, DC 20006. Telephone: (202) 502-7762. E-mail: John.Kolotos@ed.gov.

If you use a telecommunications device for the deaf (TDD), you may call the Federal Relay Service (FRS) at 1-800-877-8339.

Individuals with disabilities may obtain this document in an alternative format (e.g., Braille, large print, audiotape, or computer diskette) on request to the contact person listed in this section.

SUPPLEMENTARY INFORMATION: On October 22, 2007, we published a notice in the Federal Register (72 FR 59494) announcing our intent to establish one or two negotiated rulemaking committees to prepare proposed regulations under Title IV of the HEA. In the notice, we also announced three hearings where interested parties could suggest issues for consideration by the negotiating committees. We also invited parties to submit issues for consideration in writing. Finally, we requested nominations for individual negotiators, who represent key stakeholder constituencies that are involved in the Federal student aid programs, to serve on these committees.

After considering the information we received at the hearings and in writing, we have decided to establish two negotiating committees that will begin meeting in January 2008. The first committee will develop proposed regulations for the TEACH Grant program. The TEACH Grant regulations will be in a new Part 686 in Title 34 of the Code of Federal Regulations. The second committee will develop proposed regulations for the Federal student loan programs.

In selecting individuals from the submitted nominations, the Department has tried to assemble a balanced and complementary representation of the interests affected by the subject matter, consistent with section 492 of the HEA. We believe the individuals selected will bring valuable knowledge and expertise to the table, and will work as a cohesive unit to assist us in developing proposed regulations that are both reasonable and effective. Individuals that were not selected as members of the committees will be able to attend the meetings and have access to the negotiators. The committee meetings will be open to the public.

Participation in the rulemaking process is not limited to members of the committees or those who work with the committees. Following the negotiated rulemaking process, we will publish for public comment proposed regulations in the Federal Register. We anticipate that proposed regulations developed by the TEACH Grant committee will be published in April 2008. We anticipate that proposed regulations developed by the Student Loan committee will be published in June 2008.

TEACH Grant Committee Topics, Members, and Meeting Schedule

The topics the TEACH Grant Committee are likely to address all relate to the new TEACH Grant program and include:

Institutional Eligibility.

Program Eligibility.

Student Eligibility.

Conversion of Grant to Loan.

Repayment.

Conforming Changes.

This list of topics is tentative. Topics may be added as the process continues.

The members of the TEACH Grant Committee and the interests they are representing are:

Elementary and Secondary Education and Alternative Routes to Teacher Certification: Dr. Nell Ingram, Dallas Independent School District.

Four-year Public Institutions: William Graves, Dean, Darden College of Education, Old Dominion University.

Sandra Robinson, Dean, College of Education, University of Central Florida.

Joseph Pettibon, Assistant Provost, Student Financial Aid, Texas A&M University.

Herbert Brunkhorst, Professor of Science, Education and Biology, and Chair, Science, Math and Technology Education, California State University San Bernardino.

Alternates: J. Robert Hendricks, Associate Dean, College of Education, University of Arizona.

Beth Stack, Director of Operations, Student Financial Services, University of Pittsburgh.

Jan Lariviere, Associate Director for Teacher Development, Center for Science Education, University of Kansas.

Four-year Private Institutions: Janet Dodson, Director of Financial Aid, Doane College.

Scott Fleming, Government Relations, Georgetown University.

Ellis Salim, Director of Financial Aid, Baker College.

Alternates: Bernard Pekala, Director of Financial Strategies, Boston College.

Thomas O'Neill, Jr., President, Association of Independent Colleges and Universities of Nebraska.

Two-year Public Institutions: Patrick Moore, Director of Financial Aid, Delaware Technical and Community College.

For-Profit Institutions: Marry Dorrell, Corporate Vice President of Student Finance, Career Education Corporation.

Students: Carmen Berkeley, United States Students Association.

Alternate: Cedric Lawson, United Council of University of Wisconsin Students.

Associations: Terry Hartle, Senior Vice President, American Council of Education.

Alternate: Cyndy Littlefield, Association of Jesuit Colleges and Universities.

Department of Education: Gail McLarnon.

We have scheduled a total of three negotiated rulemaking sessions, all of which will be held at our offices on 1990 K Street, NW., Washington, DC 20006. The following schedule is subject to change. We will announce any changes to this schedule on the Department's Web site at http://www.ed.gov/policy/highered/reg/hearulemaking/2008/index2008.html.

Session 1: January 8-January 10.

Session 2: January 22-January 24.

Session 3: February 6-February 8.

For the first negotiating session, the TEACH Grant committee is scheduled to meet from 9 a.m. to 5 p.m. each day.

For Session 2, the committee is scheduled to meet from 9 a.m. to 5 p.m. each day.

For Session 3, the committee is scheduled to meet from 1 p.m. to 5 p.m. on February 6 and from 9 a.m. to 5 p.m. on February 7 and 8.

Student Loan Committee Topics, Members, and Meeting Schedule

The topics the Student Loan Committee is likely to address are:

Income-based Repayment Plan (IBR).

Conforming the Economic Hardship Deferment with IBR.

Public Service Loan Forgiveness.

Definition of Not-for-Profit Holder.

Harmonizing HEROES Waivers with Other Benefits Provided to Returning and Active Duty Military.

Federal Preemption of State Laws Related to improper inducements and arrangements between schools, lenders and other entities in the student loan programs.

This list of topics is tentative. Topics may be added as the process continues.

The members of the Student Loan Committee and the interests they are representing are:

Students: Luke Swarthout, United States PIRG.

Alternate: Rebecca Thompson, United States Student Association.

Graduate and Professional Students: Carrie Steere-Salazar, American Association of Medical Colleges.

Alternate: Radhika Miller, National Lawyers Guild Partnership for Civil Justice.

Legal Aid: Deanne Loonin, National Consumer Law Center.

Alternate: Lauren Saunders, National Consumer Law Center.

Four-year Public Institutions: Allison Jones, California State University.

Alternate: Anna Griswold, Pennsylvania State University.

Four-year Private Institutions: Eileen O'Leary, Stonehill College.

Alternate: Kathleen Koch, Seattle University School of Law.

Two and Four-year Public Institutions: George Chin, City University of New York.

For-profit Institutions: Mark Pelesh, Corinthian Colleges.

Alternate: Tammy Halligan, Career College Association.

Lenders—For-Profit: Tom Levandowski, Wachovia Corporation.

Alternate: Walter Balmas, MyRichUncle.

Lenders—Non-Profit: Scott Giles, Vermont Student Assistance Corporation.

Alternate: Phil Van Horn, Wyoming Student Loan Corporation.

Guaranty Agencies: Gene Hutchins, New Jersey Higher Education Student Assistance Authority.

Alternate: Dick George, Great Lakes Higher Education Guaranty Cooperation.

Servicers: Wanda Hall, EDFinancial Services.

Alternate: Rob Sommers, Sallie Mae.

Collection Agencies: Martin Darnian, Windham Professionals.

Alternate: Carl Perry, Progressive Financial Services.

Associations: Anne Gross, NACUBO.

Department of Education: Dan Madzelan.

We have scheduled a total of three negotiated rulemaking sessions, all of which will be held at our offices on 1990 K Street, NW., Washington, DC 20006. The following schedule is subject to change. We will announce any changes to this schedule on the Department's Web site at http://www.ed.gov/policy/highered/reg/hearulemaking/2008/index2008.html.

Session 1: January 14-January 16.

Session 2: February 4-February 6.

Session 3: March 4-March 6.

For the first negotiating session, the Student Loan Committee is scheduled to meet from 9 a.m. to 5 p.m. each day.

For Session 2, the committee is scheduled to meet from 9 a.m. to 5 p.m. on February 4th and 5th; and from 9 a.m. to 12 noon on February 6th.

For Session 3, the committee is scheduled to meet from 9 a.m. to 5 p.m. each day.

Electronic Access to This Document

You may view this document in text or Adobe Portable Document Format (PDF) on the Internet at the following site: http://www.ed.gov/news/fedregister.

To use PDF you must have Adobe Acrobat Reader, which is available free at this site. If you have questions about using PDF, call the U.S. Government Printing Office toll free at 1-888-293-6498; or in the Washington, DC area at (202) 512-1530.

Note: The official version of this document is the document published in the Federal Register. Free Internet access to the official edition of the Federal Register and the Code of Federal Regulations is available on GPO Access at: http://www.gpoaccess.gov/nara/index.html.

Program Authority: 20 U.S.C. 1098a.

Dated: January 3, 2008.
Diane Auer Jones,
Assistant Secretary for Postsecondary Education.

[FR Doc. E8-121 Filed 1-7-08; 8:45 am]

BILLING CODE 4000-01-P